DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before February 6, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: United States Gift (and Generation-Skipping Transfer) Tax Return.

OMB Number: 1545-0020.

Form Number: Form 709, 709-NA.

Abstract: Form 709 is used by individuals to report transfers subject to the gift and generation-skipping transfer taxes and to compute these taxes. The IRS uses the information to collect and enforce these taxes, to verify that the taxes are properly computed, and to compute the tax base for the estate tax. Form 709-NA is used to report certain transfers by a nonresident not a citizen of the United States that are subject to the Federal gift tax and certain generation-skipping transfer (GST) taxes and to figure the tax due, if any, on those transfers. The Form 709-NA is also used to allocate the lifetime GST exemption to property transferred during a transferor's lifetime.

Current Actions: This collection is being revised to include Form 709-NA.

Type of Review: Revision to previously approved collection.

Affected Public: Individuals and household.

Estimated Number of Responses: 225,530.

Estimated Time per Respondent: 6 hours, 12 minutes.

Estimated Total Annual Burden Hours: 1,398,286.

2. Title: Declarations and Authorizations for Electronic Filing.

OMB Number: 1545-0967.

Form Number: 8453-EG, 8453-WH, 8879-EG, and 8879-WH.

Abstract: The IRS is actively engaged in encouraging e-filing and electronic documentation. The Form 8453 series is used to authenticate the electronically filed tax return, authorize the electronic return originator (ERO) or intermediate service provider (ISP) to transmit the return, and provide the taxpayer's consent to authorize electronic funds withdrawal for payment of taxes owed. The Form 8879 series is used authorize the taxpayer and ERO to sign the return using a personal identification number (PIN) and consent to an electronic funds withdrawal.

Current Actions: There is a change to the existing collection. Forms 8453-EG and 8879-EG are new forms developed for United States Gift (and Generation-Skipping Transfer) Tax Return.

Type of Review: Revision of a currently approved collection.

Affected Public: Individuals or households, and Business or other for-profit organizations.

Estimated Number of Responses: 226,400.

Estimated Time per Respondent: 1.99 hours.

Estimated Total Annual Burden Hours: 450,520.

Authority: 44 U.S.C. 3501 et seq.

Melody Braswell,
Treasury PRA Clearance Officer.

[FR Doc. 2024-31781 Filed 1-6-25; 8:45 am]

BILLING CODE 4830-01-P